DEPARTMENT OF COMMERCE

National Oceanic and Atmospheric Administration

Submission for OMB Review; Comment Request

The Department of Commerce will submit to the Office of Management and Budget (OMB) for clearance the following proposal for collection of information under the provisions of the Paperwork Reduction Act (44 U.S.C. Chapter 35).

Agency: National Oceanic and Atmospheric Administration (NOAA).

Title: Pacific Coast Groundfish Fishery Rationalization Social Study.

OMB Control Number: 0648-0606.

Form Number(s): None.

Type of Request: Regular (request for extension of a currently approved information collection).

Number of Respondents: 460.

Average Hours per Response: 30 minutes.

Burden Hours: 143.

Needs and Uses: This request is for revision and extension of a currently approved information collection. The revision consists of minor changes to the information collection tool.

Historically, changes in fisheries management regulations have been shown to result in impacts to individuals within the fishery. An understanding of social impacts in fisheries—achieved through the collection of data on fishing communities, as well as on individuals who fish—is a requirement under several federal laws. Laws such as the National Environmental Protection Act and the Magnuson Stevens Fishery Conservation Act (as amended 2007) describe such requirements. The collection of this data not only helps to inform legal requirements for the existing management actions, but will inform future management actions requiring equivalent information.

Literature indicates fisheries rationalization programs have an impact on those individuals participating in the affected fishery. The Pacific Fisheries Management Council implemented a rationalization program for the Pacific Coast Groundfish limited entry trawl fishery in January 2011. This research aims to continue to study the individuals in the affected fishery over the long term. Data collection will shift from a timing related to changes in the catch share program design elements to a five-year cycle. In addition, the study will compare results to previous data collection efforts in 2010, 2012, and 2015/2016. The data collected will provide updated and more comprehensive descriptions of the industry as well as allow for analysis of changes the rationalization program may create in the fishery. The measurement of these changes will lead to a greater understanding of the social impacts the management measure may have on the individuals in the fishery. To achieve these goals, it is critical to continue data collection for comparison to previously collected data and establish a time-series which will identify changes over the long term. Analysis can also be correlated with any regulatory adjustments due to the upcoming five-year review of the program. This study will continue data collection efforts to achieve the stated objectives.

Affected Public: Business or other for-profit organizations; not-for-profit institutions; individuals or households.

Frequency: Intermittently (every 2-3 years).

Respondent's Obligation: Voluntary.

This information collection request may be viewed at reginfo.gov. Follow the instructions to view Department of Commerce collections currently under review by OMB.

Written comments and recommendations for the proposed information collection should be sent within 30 days of publication of this notice to OIRA_Submission@omb.eop.gov or fax to (202) 395-5806.

Dated: July 26, 2016.
Sarah Brabson,
NOAA PRA Clearance Officer.

[FR Doc. 2016-18076 Filed 7-29-16; 8:45 am]

BILLING CODE 3510-22-P